INTERNATIONAL TRADE COMMISSION

[Investigation No. 731-TA-1334-1337 (Final)]

Emulsion Styrene-Butadiene Rubber From Brazil, Korea, Mexico, and Poland

Determination

On the basis of the record ¹ developed in the subject investigations, the United States International Trade Commission (“Commission”) determines, pursuant to the Tariff Act of 1930 (“the Act”), that an industry in the United States is materially injured by reason of imports of emulsion styrene-butadiene rubber from Brazil, Korea, Mexico, and Poland, provided for in subheading 4002.19.00 of the Harmonized Tariff Schedule of the United States, that have been found by the Department of Commerce (“Commerce”) to be sold in the United States at less than fair value (“LTFV”).2 3

¹ The record is defined in sec. 207.2(f) of the Commission's Rules of Practice and Procedure (19 CFR 207.2(f)).

² Vice Chairman David S. Johanson and Commissioner Meredith M. Broadbent dissenting.

³ The Commission also finds that imports subject to Commerce's affirmative critical circumstances determination are not likely to undermine seriously the remedial effect of the antidumping duty order on Korea.

Background

The Commission, pursuant to section 735(b) of the Act (19 U.S.C. 1673d(b)), instituted these investigations effective July 21, 2016, following receipt of a petition filed with the Commission and Commerce by Lion Elastomers, LLC, Port Neches, Texas, and East West Copolymer, LLC, Baton Rouge, Louisiana. The Commission scheduled the final phase of the investigations following notification of preliminary determinations by Commerce that imports of emulsion styrene-butadiene rubber from Brazil, Korea, Mexico, and Poland were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of March 13, 2017 (82 FR 13503). The hearing was held in Washington, DC, on June 29, 2017, and all persons who requested the opportunity were permitted to appear in person or by counsel.

The Commission made these determinations pursuant to section 735(b) of the Act (19 U.S.C. 1673d(b)). It completed and filed its determinations in these investigations on August 25, 2017. The views of the Commission are contained in USITC Publication 4717 (August 2017), entitled Emulsion Styrene-Butadiene Rubber from Brazil, Korea, Mexico, and Poland: Investigation Nos. 731-TA-1334-1337 (Final).

By order of the Commission.
Issued: September 12, 2017.
Lisa R. Barton,
Secretary to the Commission.

[FR Doc. 2017-19675 Filed 9-14-17; 8:45 am]

BILLING CODE 7020-02-P